DEPARTMENT OF COMMERCE

Foreign-Trade Zones Board

[Order No. 1739]

Approval for Expanded Manufacturing Authority, Foreign-Trade Subzone 116A, Motiva Enterprises, LLC (Oil Refinery), Port Arthur, TX

Pursuant to its authority under the Foreign-Trade Zones Act of June 18, 1934, as amended (19 U.S.C. 81a-81u), the Foreign-Trade Zones Board (the Board) adopts the following Order:

Whereas, the Foreign-Trade Zone of Southeast Texas, grantee of Foreign-Trade Zone 116, has requested authority on behalf of Motiva Enterprises, LLC (Motiva), to expand the scope of manufacturing activity conducted under zone procedures within Subzone 116A at the Motiva facilities in Port Arthur, Texas, (FTZ Docket 43-2010, filed 7-1-2010);

Whereas, notice inviting public comment has been given in the Federal Register (75 FR 39662-39663, 7-15-2010) and the application has been processed pursuant to the FTZ Act and the Board's regulations; and,

Whereas, the Board adopts the findings and recommendations of the examiner's report, and finds that the requirements of the FTZ Act and Board's regulations would be satisfied, and that the proposal would be in the public interest if subject to the restrictions listed below;

Now, therefore, the Board hereby orders:

The application to expand the scope of manufacturing authority under zone procedures within Subzone 116A, as described in the application and Federal Register notice, is approved, subject to the FTZ Act and the Board's regulations, including Section 400.28, and further subject to the following restrictions:

1. Foreign status (19 CFR 146.41, 146.42) products consumed as fuel for the refinery shall be subject to the applicable duty rate.

2. Privileged foreign status (19 CFR 146.41) shall be elected on all foreign merchandise admitted to the subzone, except that non-privileged foreign (NPF) status (19 CFR 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

—petrochemical feedstocks and refinery by-products (examiner's report, Appendix “C”);

—products for export;

—and, products eligible for entry under HTSUS #9808.00.30 and #9808.00.40 (U.S. Government purchases).

Signed at Washington, DC, this 4th day of February 2011.
Ronald K. Lorentzen,
Deputy Assistant Secretary for Import Administration, Alternate Chairman, Foreign-Trade Zones Board.
Andrew McGilvray,
Executive Secretary.

[FR Doc. 2011-3894 Filed 2-18-11; 8:45 am]

BILLING CODE P